Proclamation 9248 of April 1, 2015

National Donate Life Month, 2015

By the President of the United States of America

A Proclamation

At this moment, more than 123,000 Americans are in need of a life-saving organ transplant. Our Nation continues to face a critical shortage of donors, and every day, 21 people die waiting for an organ. This month, we renew our call for organ, eye, and tissue donors, and we honor all those who have given the extraordinary gift of life.

The decision to become a donor can save up to eight lives and enhance many more—men, women, and children who depend on the generosity and sacrifice of others to receive the vital care they require. I encourage individuals of all ages and backgrounds to consider this unique opportunity to help those in need and to discuss this choice with friends and family. For more information and to learn how to join your State's donor registry, visit www.OrganDonor.gov.

In the face of uncertainty and suffering, Americans have always joined together, drawing strength and comfort from our commitment to one another; we find hope through faith and our enduring belief that we are our brothers' and sisters' keepers. During National Donate Life Month, let us stand with all those who know the pain of an uncertain tomorrow and redouble our efforts to save and improve the lives of Americans across our country.

NOW, THEREFORE, I, BARACK OBAMA, President of the United States of America, by virtue of the authority vested in me by the Constitution and the laws of the United States, do hereby proclaim April 2015 as National Donate Life Month. I call upon health care professionals, volunteers, educators, government agencies, faith-based and community groups, and private organizations to join forces to boost the number of organ, eye, and tissue donors throughout our Nation.

IN WITNESS WHEREOF, I have hereunto set my hand this first day of April, in the year of our Lord two thousand fifteen, and of the Independence of the United States of America the two hundred and thirty-ninth.

[FR Doc. 2015-08031

Filed 4-3-15; 11:15 am]

Billing code 3295-F5